DEPARTMENT OF COMMERCE

National Oceanic and Atmospheric Administration

[I.D. 032106G]

Fisheries of the South Atlantic and Gulf of Mexico; Joint South Atlantic Fishery Management Council (SAFMC) and Gulf of Mexico Fishery Management Council (GMFMC), Scientific and Statistical Committee ad hoc Sub-Committee; Public Meeting

AGENCY: National Marine Fisheries Service (NMFS), National Oceanic and Atmospheric Administration (NOAA), Commerce.

ACTION: Notice of a joint SAFMC and GMFMC Scientific and Statistical Committee (SSC) ad hoc Sub-Committee meeting to address king mackerel stock identification.

SUMMARY: The SAFMC and GMFMC will hold a joint Scientific and Statistical Committees (SSC) ad hoc Sub-Committee meeting to determine appropriate king mackerel mixing rates for the South Atlantic and Gulf of Mexico. The meeting will be held in Atlanta, GA. See SUPPLEMENTARY INFORMATION.

DATES: The workshop will take place April 13, 2006, from 8 a.m. until 4 p.m.. See SUPPLEMENTARY INFORMATION.

ADDRESSES: The meeting will be held at the Double Tree Club Hotel Atlanta Airport, 3400 Norman Berry Drive, Atlanta, GA 30344; telephone: (404) 763-1600, fax: (404) 765-0200.

Council address: South Atlantic Fishery Management Council, One Southpark Circle, Suite 306, Charleston, SC 29407-4699.

FOR FURTHER INFORMATION CONTACT: Kim Iverson, Public Information Officer, South Atlantic Fishery Management Council, One Southpark Circle, Suite 306, Charleston, SC 29407-4699; telephone: (843) 571-4366 or toll free (866) SAFMC-10; fax: (843) 769-4520; email: kim.iverson@safmc.net.

SUPPLEMENTARY INFORMATION: Under the Magnuson-Stevens Act, the SSC is the body responsible for reviewing the council's scientific materials. The South Atlantic Fishery Management Council and Gulf of Mexico Fishery Management Council manage coastal migratory pelagics (mackerels) under a joint management plan. The two Councils will hold a joint meeting of delegates from each of their Scientific and Statistical Committees on April 13, 2006, from 8 a.m. until 4 p.m. During the meeting, the SSC ad hoc Sub-Committee will review materials relevant to stock identification of king mackerel.

Items for discussion include: (1) A review of documents pertaining to king mackerel stock identification and migratory unit discrimination presented to or cited by the Southeast Data, Assessment and Review (SEDAR) 5 stock assessment workshops, (2) a review of recommendations of the SEDAR 5 Workshops pertaining to king mackerel stock identification and allocation of landings into migratory units, (3) a review of any additional research materials regarding king mackerel stock identification and migratory unit allocations since the SEDAR 5 Workshops, (4) recommendations for a stock definition for Gulf and South Atlantic migratory units of king mackerel, and (5) recommendations for the most appropriate method for allocating king mackerel landings into the Gulf and South Atlantic migratory units. The ad hoc SSC Sub-Committee will prepare a written consensus report documenting committee discussions and recommendations for use by the South Atlantic and Gulf Councils.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 3 days prior to the meetings.

Note: The times and sequence specified in this agenda are subject to change.

Dated: March 22, 2006.
Tracey L. Thompson,
Acting Director, Office of Sustainable Fisheries, National Marine Fisheries Service.

[FR Doc. E6-4350 Filed 3-24-06; 8:45 am]

BILLING CODE 3510-22-S